DEPARTMENT OF THE INTERIOR

Minerals Management Service

Programmatic Environmental Assessment of Geological and Geophysical Exploration for Mineral Resources on the Gulf of Mexico Outer Continental Shelf

AGENCY: Minerals Management Service, Interior.

ACTION: Notice of availability of an Environmental Assessment.

SUMMARY: The Minerals Management Service (MMS) has prepared an environmental assessment (EA) to evaluate the potential environmental impacts of geological and geophysical (G&G) activities in the Gulf of Mexico. The activities analyzed in the EA include seismic surveys, deep-tow side-scan surveys, electromagnetic surveys, geological and geochemical sampling, and remote-sensing surveys. The impact-producing factors considered in the EA include seismic survey noise, vessel and aircraft noise, seafloor disturbance, and space-use conflicts with seismic arrays.

FOR FURTHER INFORMATION CONTACT: Minerals Management Service, Gulf of Mexico OCS Region, 1201 Elmwood Park Boulevard, New Orleans, Louisiana 70123-2394, Dr. Richard Defenbaugh, (504) 736-2759.

SUPPLEMENTARY INFORMATION: The MMS currently requires operators engaged in activities on the OCS, including G&G activities, to comply with a number of lease stipulations, Notices to Lessees, and other mitigation measures designed to reduce or eliminate impacts to sensitive environmental resources from impact-producing factors such as vessel or aircraft traffic, anchoring, and trash and debris. As part of the impact analyses completed in the G&G EA, current protective and mitigation measures were evaluated. Additional feasible mitigation measures were also considered, as were potential restrictions on concurrent operations within close proximity to one another, as viable alternatives to further reduce the potential for impacts to marine mammals. Based on established significance criteria, the results of the impact analyses are that G&G activities are not expected to result in significant adverse impacts to any of the potentially affected resources. Potentially adverse but not significant impacts were identified for marine mammals (except the manatee) and commercial and recreational fishing; negligible to potentially adverse but not significant impacts were identified for sea turtles, fish, and benthic communities; and negligible impacts were identified for coastal and marine birds and the manatee. The EA has resulted in a Finding of No Significant Impact. Based on this EA, we have concluded that the G&G activities evaluated in the EA will not significantly affect the quality of the human environment. Preparation of an environmental impact statement is not required. The EA will be included as part of the information package used to petition the National Oceanic and Atmospheric Administration for small “takes” incidental to seismic surveys in the Gulf of Mexico, under the enabling regulations of the Marine Mammal Protection Act.

EA Availability: To obtain a copy of the EA, you may contact the Minerals Management Service, Gulf of Mexico OCS Region, Attention: Public Information Office (MS 5034), 1201 Elmwood Park Boulevard, Room 114, New Orleans, Louisiana 70123-2394 (1-800-200-GULF). You may also view the EA on the MMS Web site at http://www.gomr.mms.gov.

Dated: June 23, 2004.
Chris C. Oynes,
Regional Director, Gulf of Mexico OCS Region.

[FR Doc. 04-17401 Filed 7-29-04; 8:45 am]

BILLING CODE 4310-MR-P